DEPARTMENT OF TRANSPORTATION

Federal Aviation Administration

14 CFR Part 71

[Docket No. FAA-2021-0988; Airspace Docket No. 21-ANE-8]

RIN 2120-AA66

Establishment of Class E Airspace; Falmouth, MA

AGENCY: Federal Aviation Administration (FAA), DOT.

ACTION: Final rule; correction.

SUMMARY: The Federal Aviation Administration (FAA) is correcting a final rule that appeared in the Federal Register on March 4, 2022, establishing Class E airspace for Falmouth Airpark, Falmouth, MA. This action corrects the legal description of the Class E airspace by correcting a typographical error in the geographic coordinates.

DATES: Effective 0901 UTC, May 19, 2022. The Director of the Federal Register approves this incorporation by reference action under 1 CFR part 51, subject to the annual revision of FAA Order JO 7400.11 and publication of conforming amendments.

FOR FURTHER INFORMATION CONTACT: John Fornito, Operations Support Group, Eastern Service Center, Federal Aviation Administration, 1701 Columbia Avenue, College Park, GA 30337; Telephone (404) 305-6364.

SUPPLEMENTARY INFORMATION:

History

The FAA published a final rule in the Federal Register (87 FR 12393; March 4, 2022) for Docket FAA-2021-0988 establishing Class E airspace extending upward from 700 feet above the surface for Falmouth Airpark, Falmouth, MA. Subsequent to publication, the FAA identified a typographical error in the geographic coordinates listed in the airport description. This action corrects this error.

Class E airspace designations are published in Paragraph 6005 of FAA Order JO 7400.11F, dated August 10, 2021, and effective September 15, 2021, which is incorporated by reference in 14 CFR 71.1. The Class E airspace designations listed in this document will be published subsequently in the FAA Order JO 7400.11.

Correction to Final Rule

Accordingly, pursuant to the authority delegated to me, establishment of the Class E Airspace; Falmouth, MA, published in the Federal Register of March 4, 2022 (87 FR 12393), FR Doc. 2022-04544, is corrected as follows:

§ 71.1 [Corrected]

1. On page 12394, in the first column, line 27, the geographic coordinates are corrected to read as follows: (Lat. 41°35′08″ N, long. 70°32′25″ W.)

Issued in College Park, Georgia, on March 21, 2022.
Andreese C. Davis,
Manager, Airspace & Procedures Team South, Eastern Service Center, Air Traffic Organization.

[FR Doc. 2022-06296 Filed 3-24-22; 8:45 am]

BILLING CODE 4910-13-P